DEPARTMENT OF TRANSPORTATION

Bureau of Transportation Statistics

Reports, Forms and Recordkeeping Requirements; Activity Under OMB Review; Airline Service Quality Performance

AGENCY: Bureau of Transportation Statistics (BTS), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register notice with a 60-day comment period soliciting comments on the following collection of information was published on October 14, 2004 (69 FR 61079).

DATES: Written comments should be submitted by January 21, 2005.

FOR FURTHER INFORMATION CONTACT: Bernie Stankus, Office of Airline Information, K-14, Room 4125, Bureau of Transportation Statistics, 400 Seventh Street, SW., Washington, DC 20590-0001, telephone number (202) 366-4387, fax number (202) 366-3383 or e-mail bernard.stankus@bts.gov.

SUPPLEMENTARY INFORMATION:

Bureau of Transportation Statistics (BTS)

Title: Airline Service Quality Performance—Part 234.

Type of Request: Extension of a currently approved collection.

OMB Control Number: 2138-0041.

Forms: BTS Form 251.

Affected Public: U.S. air carriers that provide scheduled passenger service.

Abstract: Part 234 gives air travelers information concerning their chances of on-time flights and the rate of mishandled baggage by the 19 largest scheduled domestic passenger carriers.

Estimated Annual Burden Hours: 3,021 hours.

ADDRESSES: Send comments to the Office of Information and Regulatory Affairs, Office of Management and Budget, 725-17th Street, NW., Washington, DC 20503, Attention BTS Desk Officer.

Comments are invited on: whether the proposed collection of information is necessary for the proper performance of the functions of the Department concerning consumer protection. Comments should address whether the information will have practical utility; the accuracy of the Department's estimate of the burden of the proposed information collection; ways to enhance the quality, utility and clarity of the information to be collected; and ways to minimize the burden of the collection of information on respondents, including the use of automated collection techniques or other forms of information technology.

Issued in Washington, DC, on December 15, 2004.
Donald W. Bright,
Assistant Director, Office of Airline Information.

[FR Doc. 04-28009 Filed 12-21-04; 8:45 am]

BILLING CODE 4910-FE-P